COMMITTEE FOR PURCHASE FROM PEOPLE WHO ARE BLIND OR SEVERELY DISABLED

Procurement List; Additions and Deletions

AGENCY: Committee for Purchase From People Who Are Blind or Severely Disabled.

ACTION: Deletions from the procurement list.

SUMMARY: This action deletes product(s) and service(s) from the Procurement List that were furnished by nonprofit agencies employing persons who are blind or have other severe disabilities.

DATES: Date added to and deleted from the Procurement List: August 15, 2021.

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Deletions

On 6/4/2021 and 6/11/2021, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

4240-00-NIB-0239—Self-Contained Breathing Apparatus Identifier Tags

4240-00-NIB-0276—Label, Custom, SBCA ID, Adhesive Back, Photoluminescent

Designated Source of Supply: Cincinnati Association for the Blind, Cincinnati, OH

Contracting Activity: DLA TROOP SUPPORT, PHILADELPHIA, PA

NSN(s)—Product Name(s): 7510-01-350-1810—Correction Tape, Refill Cartridge, White, 12m

Designated Source of Supply: West Texas Lighthouse for the Blind, San Angelo, TX

Contracting Activity: GSA/FAS ADMIN SVCS ACQUISITION BR(2, NEW YORK, NY

NSN(s)—Product Name(s): 7510-01-350-1810—Correction Tape, Refill Cartridge, White, 12m

Designated Source of Supply: Industries for the Blind and Visually Impaired, Inc., West Allis, WI

Contracting Activity: GSA/FAS ADMIN SVCS ACQUISITION BR(2, NEW YORK, NY

NSN(s)—Product Name(s): 6850-00-973-9091—Penetrating Fluid

Designated Source of Supply: The Lighthouse for the Blind, St. Louis, MO

Contracting Activity: GSA/FSS GREATER SOUTHWEST ACQUISITI, FORT WORTH, TX

NSN(s)—Product Name(s): 8465-01-580-0967—M-4 magazine Side-by-Side Pouch, OCP

Designated Source of Supply: Chautauqua County Chapter, NYSARC, Jamestown, NY

Contracting Activity: DLA TROOP SUPPORT, PHILADELPHIA, PA

NSN(s)—Product Name(s): 8465-01-580-0967—M-4 magazine Side-by-Side Pouch, OCP

Designated Source of Supply: Southeastern Kentucky Rehabilitation Industries, Inc., Corbin, KY

Contracting Activity: DLA TROOP SUPPORT, PHILADELPHIA, PA

Service(s)

Service Type: CBRNE Kit Sustainment and Replenishment

Mandatory for: Naval Medical Logistics Command, Fort Detrick, MD, 693 Nelman Street, Fort Detrick, MD (Offsite: 10440 Trenton Avenue, St. Louis, MO)

Designated Source of Supply: The Lighthouse for the Blind, St. Louis, MO

Contracting Activity: DEPT OF THE NAVY, NAVAL MEDICAL LOGISTICS COMMAND

Michael R. Jurkowski,
Deputy Director, Business Operations.

[FR Doc. 2021-15140 Filed 7-15-21; 8:45 am]

BILLING CODE 6353-01-P